DEPARTMENT OF DEFENSE

Cost Accounting Standards

AGENCY: Department of Defense (DoD).

ACTION: Notice of public meeting.

SUMMARY: The Director of Defense Procurement, in conjunction with the National Contract Management Association, is sponsoring a public meeting to discuss potential areas for streamlining the Cost Accounting Standards. The Director of Defense Procurement would like to hear the views of interested parties regarding any standards or parts of standards that present streamlining opportunities (elimination, revision, and/or amendment) in light of changes that have occurred since the standards were promulgated, including the evolution of Generally Accepted Accounting Principles, the advent of Acquisition Reform, and experience gained from implementation. A listing of some possible streamlining area can be found on the Internet Home Page of the Office of Cost, Pricing, and Finance at http://www.acq.osd.mil/dp/cpf.

Upon identification of the particular standards or parts of standards that present streamlining opportunities, subsequent public meetings will be held to discuss specific provisions, details, and/or recommendations. The dates and times of those meetings will be published on the Internet Home Page of the Office of Cost, Pricing, and Finance. Upon completion of this effort, recommendations will be provided to the Cost Accounting Standards Board for the Board's consideration.

DATES: The first meeting will be held on August 3, 2000, from 9:00 a.m. until 1:00 p.m.

ADDRESSES: The meeting will be held at the National Contract Management Association, 1912 Woodford Drive, Vienna, VA 22182. Directions may be found on the Intenet at http://www.acq.osd.mil/dp/cpf.

FOR FURTHER INFORMATION CONTACT: Mr. David Capitano, Office of Cost, Pricing, and Finance, by telephone at (703) 695-9764, by FAX at (703) 693-9616, or by e-mail at capitadj@acq.osd.mil.

Michele P. Peterson,
Executive Editor, Defense Acquisition Regulations Council.

[FR Doc. 00-18251 Filed 7-18-00; 8:45 am]

BILLING CODE 5000-04-M